DEPARTMENT OF THE INTERIOR

Bureau of Indian Affairs

Land Acquisitions; Suquamish Tribe of Washington

AGENCY: Bureau of Indian Affairs, Interior.

ACTION: Notice of Final Agency Determination to take land into trust under 25 CFR part 151.

SUMMARY: The Principal Deputy Assistant Secretary—Indian Affairs made a final agency determination to acquire approximately 12.72 acres of land into trust for the Suquamish Tribe of Washington on April 21, 2004. This notice is published in the exercise of authority delegated by the Secretary of the Interior to the Principal Deputy Assistant Secretary—Indian Affairs by 209 Departmental Manual 8.1.

FOR FURTHER INFORMATION CONTACT: George Skibine, Office of Indian Gaming Management, Office of Policy—Economic Development, MS-4606 MIB, 1849 C Street, NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On April 21, 2004, the Principal Deputy Assistant Secretary—Indian Affairs decided to accept approximately 12.72 acres of land into trust for the Suquamish Tribe of Washington under the authority of the Indian Reorganization Act of 1934, 25 U.S.C. 465. On April 10, 2003, the Regional Solicitor, Pacific Northwest Region determined that the acquisition of this parcel in trust status for gaming is consistent with the Indian Gaming Regulatory Act, 25 U.S.C. 2719 (a)(1), because the parcel is located within the boundaries of the Suquamish Reservation as the reservation existed on October 17, 1988.

That portion of Government Lot 2, Section 29, Township 26 North, Range 2 East, W.M., in Kitsap County, Washington, described as follows:

BEGINNING AT THE SOUTHWEST CORNER OF SAID GOVERNMENT LOT 2 (A CONCRETE MONUMENT) WHICH BEARS SOUTH 1°40′06″ WEST 1339.80 FEET FROM THE NORTHWEST CORNER OF SAID GOVERNMENT LOT 2, BEING A CONCRETE MONUMENT AT THE NORTHEAST CORNER OF THE PLAT OF “AGATE WEST” AS PER VOLUME 9 OF PLATS, PAGE 52; THENCE ALONG THE WEST LINE OF SAID GOVERNMENT LOT 2, NORTH 1°40′06″ EAST 272.88 FEET TO THE SOUTHERLY RIGHT-OF-WAY OF STATE HIGHWAY 305; THENCE ALONG SAID RIGHT-OF-WAY NORTH 61°57′40″ EAST 21.17 FEET TO THE TRUE POINT OF BEGINNING; THENCE CONTINUING ALONG SAID RIGHT-OF-WAY THE FOLLOWING; NORTH 61°57′50″ EAST 275.79 FEET; THENCE SOUTH 28°02′20″ EAST 25.00 FEET; THENCE NORTH 61°57′40″ EAST 231.00 FEET; THENCE NORTHEASTERLY ALONG A 100 FOOT OFFSET SPIRAL TO THE RIGHT (CENTERLINE SPIRAL OF “A-1 ⅔”) THROUGH A RESULTANT OFFSET SPIRAL CHORD OF NORTH 6°55′50″ EAST 258.35 FEET; THENCE NORTH 22°00′29″ WEST 25.00 FEET; THENCE NORTHEASTERLY ALONG A 75 FOOT OFFSET SPIRAL TO THE RIGHT THROUGH A RESULTANT OFFSET SPIRAL CHORD OF NORTH 73°55′00″ EAST 193.34 FEET; THENCE EASTERLY ON A CURVE TO THE RIGHT, THE CENTER OF WHICH BEARS SOUTH 8°50′20″ EAST 641.20 FEET, AN ARC DISTANCE OF 249.31 FEET TO A POINT ON THE WEST LINE OF THE EAST 150 FEET OF SAID GOVERNMENT LOT 2; THENCE LEAVING SAID RIGHT-OF-WAY AND RUNNING ALONG THE WEST LINE OF THE EAST 150 FEET, SOUTH 3°09′51″ WEST 702.89 FEET TO THE SOUTH LINE OF SAID GOVERNMENT LOT 2; THENCE ALONG SAID SOUTH LINE NORTH 88°49′32″ WEST 372.75 FEET; THENCE LEAVING SAID SOUTH LINE NORTH 28°49′32″ WEST 46.19 FEET; THENCE NORTH 88°49′32″ WEST 292.00 FEET; THENCE SOUTH 32°40′28″ WEST 46.91 FEET TO SAID SOUTH LINE OF GOVERNMENT LOT 2 BEING THE NORTHWEST CORNER OF A TRACT OF LAND CONVEYED TO EDWARD A. FEENEY UNDER AUDITOR'S FILE NO. 1155684 WHICH BEARS SOUTH 88°49′32″ EAST 390.77 FEET FROM THE SAID SOUTHWEST CORNER OF GOVERNMENT LOT 2; THENCE ALONG SAID SOUTH LINE OF GOVERNMENT LOT 2, NORTH 8°49′32″ WEST 66.97 FEET; THENCE LEAVING SAID SOUTH LINE NORTH 205′10″ EAST 75.00 FEET; THENCE NORTH 88°49′32″ WEST 151.02 FEET; THENCE NORTH 10°03′31″ WEST 33.95; THENCE WESTERLY AND NORTHWESTERLY ALONG A CURVE TO THE RIGHT THE CENTER OF WHICH BEARS NORTH 10°03′31″ WEST 125.00 FEET, AN ARC DISTANCE OF 118.51 FEET; THENCE NORTH 45°44′15″ WEST 18.49 FEET; THENCE NORTH 8°54′26″ WEST 133.02 FEET TO THE TRUE POINT OF BEGINNING; SITUATED IN THE COUNTY OF KITSAP, STATE OF WASHINGTON.

Containing 12.72 acres, more or less.

Dated: January 11, 2005.
Michael D. Olsen,
Acting Principal Deputy Assistant Secretary—Indian Affairs.

[FR Doc. 05-940 Filed 1-14-05; 8:45 am]

BILLING CODE 4310-4N-P